DEPARTMENT OF ENERGY

Federal Energy Regulatory Commission

[Docket Nos. RP08-600-000]

Colorado Interstate Gas Company; Notice of Technical Conference

October 22, 2008.

Take notice that the Commission will convene a technical conference in the above-referenced proceedings on Tuesday, November 18, 2008, at 10 a.m. (EDT), in a room to be designated at the offices of the Federal Energy Regulatory Commission, 888 First Street, NE., Washington, DC 20426.

The Commission's September 30, 2008, Order ¹ in Docket No. RP08-600-000 directed that a technical conference be held to address the issues raised by Colorado Interstate Gas Company's (CIG) August 29, 2008, tariff filing to provide the first annual update to the cost/revenue true-up accepted in Docket No. RP07-666-000.

¹ Colorado Interstate Gas Co., 124 FERC ¶ 61,311 (2008).

Commission Staff and interested persons will have the opportunity to discuss all of the issues raised by CIG's filing including, but not limited to, technical, engineering and operational issues, and issues related to the interpretation of tariff provisions governing CIG's fuel tracking mechanism, and specifically, its cost/revenue true-up.

FERC conferences are accessible under section 508 of the Rehabilitation Act of 1973. For accessibility accommodations please send an e-mail to accessibility@ferc.gov or call toll free (866) 208-3372 (voice) or (202) 502-8659 (TTY), or send a fax to (202) 208-2106 with the required accommodations.

All interested persons are permitted to attend. For further information please contact Timothy Duggan at (202) 502-8326 or e-mail Timothy.Duggan@ferc.gov.

Kimberly D. Bose,
Secretary.

[FR Doc. E8-25681 Filed 10-27-08; 8:45 am]

BILLING CODE 6717-01-P